FEDERAL COMMUNICATIONS COMMISSION

Information Collection Being Submitted for Review and Approval to the Office of Management and Budget

AGENCY: Federal Communications Commission.

ACTION: Notice and request for comments.

SUMMARY: As part of its continuing effort to reduce paperwork burden and as required b y the Paperwork Reduction Act (PRA) of 1995 (44 U.S.C. 3502-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 5, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-0986.

Title: Competitive Carrier Line Count Report and Self-Certification as a Rural Carrier.

Form No.: N/A.

Type of Review: Revision of a currently approved collection.

Respondents: Business or other for-profit, not-for-profit institutions and state, local or tribal government.

Number of Respondents: 4,934 respondents; 5,048 responses.

Estimated Time per Response: .50 hours to 80 hours.

Frequency of Response: On occasion, annual and quarterly reporting requirements, and third party disclosure requirement.

Obligation to Respond: Required to obtain or retain benefits. Statutory authority for this information collection is contained in 47 U.S.C. sections 151-154, 201-206, 214, 218-220, 251, 252, 254, 256, 303(r), 332, 403, 405, and 410.

Total Annual Burden: 163,435 hours.

Total Annual Cost: N/A.

Privacy Act Impact Assessment: N/A.

Nature and Extent of Confidentiality: The Commission is not requesting that respondents submit confidential information to the Commission. We note that the Universal Service Administrative Company (USAC), who administers the Universal Service program, must preserve the confidentiality of all data obtained from respondents and contributors to the universal service support program mechanism; must not use the data except for purposes of administering the universal service support program; and must not disclose data in company-specific form unless directed to do so by the Commission.

Needs and Uses: The Commission will submit this revised information collection to the Office of Management and Budget (OMB) during this 30 day comment period in order to obtain the full three year clearance from them.

In November 2011, the Commission adopted a Report and Order, FCC 11-161, Connect America Fund; A National Broadband Plan for Our Future; Establish Just and Reasonable Rates for Local Exchange Carriers; High-Cost Universal Service Support; Developing a Unified Intercarrier Compensation Regime; Federal-State Joint Board on Universal Service; Life-line and Link-Up; and Universal Service Reform—Mobility Fund. This revision addresses several reforms adopted in the Report and Order. The Commission plans to submit additional revisions or new collections for OMB review and approval to address other reforms adopted in the Order at a later date.

During the review process, it was determined that the reporting requirements under OMB Control Number 3060-0894 should be eliminated. The Order eliminated the rate comparability review and certification, as well as the certification letter accounting for receipt of federal support in OMB Control Number 3060-0894 was duplicative of the certification pursuant to section 254(e) of the Act. Upon OMB approval of this revised information collection, the Commission will voluntarily discontinue OMB Control Number 3060-0894.

The Order also moved the recordkeeping requirement from 47 CFR section 54.202(e) to new 47 CFR section 54.320. The Commission is deleting this recordkeeping requirement from the information collections in OMB Control Numbers 3060-1081 and 3060-0774.

The Order provides:

(1) That existing high-cost support for price cap incumbent local exchange carriers will be frozen at the 2011 levels.

(2) Adopts a rule to reduce, dollar-for-dollar, a carrier's high-cost loop support (for rate of return carriers) or Connect America Fund Phase I frozen high-cost support (for price cap carriers) to the extent that the carrier's local end user rate plus state regulated fees do not meet a specified urban rate floor.

(3) Modifies section 54.307;

(4) Revises the certifications that states (or ETCs that are not subject to state jurisdiction) are required to file annually with the Commission and USAC to ensure that carriers use universal service support “only for the provision, maintenance and upgrading of facilities and services for which the support is intended” consistent with section 254(e) of the Act;

(5) Eliminates the eligibility for Safety Net Additive support for costs incurred after 2009;

(6) Eliminates the distinction between “rural” and “non-rural” carriers.

(7) Moves the recordkeeping requirement from 47 CFR 54.202(e) to new section 47 CFR 54.320.

(8) Extends current federal annual reporting requirements to all ETCs, including those designated by states.

The Commission will use the information requirements to determine whether and to what extent incumbent LECs and competitive ETCs providing the data are eligible to receive universal service support.

Federal Communications Commission.
Marlene H. Dortch,
Secretary, Office of the Secretary, Office of Managing Director.

[FR Doc. 2012-5360 Filed 3-5-12; 8:45 am]

BILLING CODE 6712-01-P